DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of May 2006.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of Section 222 have been met, and Section 246(a)(3)(A)(ii) of the Trade Act have been met.

TA-W-59,064; Gerber Legendary Blades, Fiskars Brands, Your Best Resource, Portland, OR: March 16, 2005

TA-W-59,095; Burlington House Finishing Plant, Burlington, NC: March 27, 2005

TA-W-59,130; Bari-Jay Fashions Inc., New York, NY: March 17, 2005

TA-W-59,146; NTN—BCA Corporation, Lititz, PA: June 12, 2005

TA-W-59,236; Delta Creative, Inc., Delta Technical Coatings, Inc., Select Temp., Whittier, CA: April 14, 2005

TA-W-59,125; Weyerhaeuser Corporation, Elmira Heights, NY: March 28, 2005

TA-W-59,246; Newco Fibre Company, Charlotte, NC: April 5, 2005

TA-W-59,328; Funny-Bunny Incorporated, Doing Business As Cach Cach, Santa Ana, CA: May 3, 2005

The following certifications have been issued. The requirements of (a)(2)(B) (shift in production) of Section 222 and Section 246(a)(3)(A)(ii) of the Trade Act have been met.

TA-W-59,104; TRW Automotive, Occupant Safety Systems Div., Volt Temp., Cookeville, TN: March 21, 2005

TA-W-59,149; Cole Hersee Co., So. Boston, MA: April 4, 2005

TA-W-59,179; Solo Cup Operating Group, Hoffmaster Division, Glens Falls, NY: March 23, 2005

TA-W-59,220; First Choice Staffing Inc., Working On-Site at ITT, MFC Electronic, Santa Ana, CA: April 14, 2005

TA-W-59,232; Superior Uniform Group Inc., McGehee Industries Div., McGehee, AR: April 17, 2005

TA-W-59,305; PDS Technical Services Inc., On-Site at Carrier Corp, Morrison, TN: April 24, 2005

TA-W-59,195; Photronics, Inc., Milpitas, CA: April 11, 2005

TA-W-59,109; Fuji Photo Film, Inc., Plant F and Plant N, Staff Source, Inc., Greenwood, SC: March 28, 2005

TA-W-59,189; Photronics, Inc., Austin, TX: March 31, 2005

TA-W-59,202; Howell Penncraft, Howell, MI: December 1, 2005

TA-W-59,289; Isola Group USA Corporation, Polyclad Technologies Div., Franklin, NH: April 27, 2005

TA-W-59,289A; Isola Group USA Corporation, Polyclad Technologies Div., Franklin, NH: April 27, 2005

TA-W-59,289B; Isola Group USA Corporation, Polyclad Technologies Div., Millbury, MA: April 27, 2005

TA-W-59,363; Moore Wallace, An RR Donnelley Co., Pre-Press Depart, Iowa City, IA: April 28, 2005

The following certification has been issued. The requirement of supplier to a trade certified firm and Section 246(a)(3)(A)(ii) of the Trade Act have been met.

TA-W-59,206; Elmore-Pisgah, Inc., Spindale, NC: April 12, 2005

TA-W-59,161; Danish Silversmith, Cranston, RI: April 5, 2005

The following certification has been issued. The requirement of downstream producer to a trade certified firm and Section 246(a)(3)(A)(ii) of the Trade Act have been met.

None

Negative Determinations for Worker Adjustment Assistance

In the following cases, the investigation revealed that the criteria for eligibility have not been met for the reasons specified.

The investigation revealed that criterion (a)(2)(A)(I.A) and (a)(2)(B)(II.A) (no employment decline) has not been met.

None

The investigation revealed that criteria (a)(2)(A)(I.B.) (Sales or production, or both, did not decline) and (a)(2)(B)(II.B) (shift in production to a foreign country) have not been met.

None

The investigation revealed that criteria (a)(2)(A)(I.C.) (increased imports) and (a)(2)(B)(II.B) (No shift in production to a foreign country) have not been met.

TA-W-59,206; Elmore-Pisgah, Inc., Spindale, NC: April 12, 2005

TA-W-59,161; Danish Silversmith, Cranston, RI: April 5, 2005

The investigation revealed that criteria (a)(2)(A)(I.C.) (Increased imports and (a)(2)(B)(II.C) (has shifted production to a foreign country) have not been met.

TA-W-58,740; Jasc Software, Eden Prairie, MN.

TA-W-59,112; Volex, Inc., Power Cord Products Div., Clinton, AR.

The workers firm does not produce an article as required for certification under Section 222 of the Trade Act of 1974.

TA-W-58,975; Nazar Rubber Company, Toledo, OH.

TA-W-59,118; Thomson, Inc., Circleville, OH.

TA-W-59,155; California Cedar Products, McCloud, CA.

TA-W-59,205; Alliance Data, ADS Alliance Data Systems, Inc., Reno, OH.

TA-W-59,225; Cigna Healthcare Service Operations, Columbus, OH.

TA-W-59,300; Philips Medical Systems (Cleveland), Inc., Finance Organization, Highland Heights, OH.

The investigation revealed that criteria (2) has not been met. The workers firm (or subdivision) is not a supplier or downstream producer to trade-affected companies.

None

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,991; Lear Corporation, Interior Systems Div., Lebanon, VA.

TA-W-59,197; Collins and Aikman Products Co., PO Box 208, Farmville, NC.

TA-W-58,740; Jasc Software, Eden Prairie, MN.

TA-W-59,112; Volex, Inc., Power Cord Products Div., Clinton, AR.

TA-W-58,975; Nazar Rubber Company, Toledo, OH.

TA-W-59,118; Thomson, Inc., Circleville, OH.

TA-W-59,155; California Cedar Products, McCloud, CA.

TA-W-59,205; Alliance Data, ADS Alliance Data Systems, Inc., Reno, OH.

TA-W-59,225; Cigna Healthcare Service Operations, Columbus, OH.

TA-W-59,300; Philips Medical Systems (Cleveland), Inc., Finance Organization, Highland Heights, OH.

The Department has determined that criterion (1) of Section 246 has not been met. Workers at the firm are 50 years of age or older.

None

The Department has determined that criterion (2) of Section 246 has not been met. Workers at the firm possess skills that are easily transferable.

TA-W-59,064; Gerber Legendary Blades, Fiskars Brands, Your Best Resource, Portland, OR:

TA-W-59,328; Funny-Bunny Incorporated, Doing Business As Cach Cach, Santa Ana, CA:

TA-W-59,220; First Choice Staffing Inc., Working On-Site at ITT, MFC Electronic, Santa Ana, CA:

The Department has determined that criterion (3) of Section 246 has not been met. Competition conditions within the workers' industry are not adverse.

None

I hereby certify that the aforementioned determinations were issued during the month of May 2006. Copies of These determinations are available for inspection in Room C-5311, U.S. Department of Labor, 200 Constitution Avenue, NW., Washington, DC 20210 during normal business hours or will be mailed to persons who write to the above address.

Dated: May 16, 2006.
Erica R. Cantor,
Director, Division of Trade Adjustment Assistance.

[FR Doc. E6-7949 Filed 5-23-06; 8:45 am]

BILLING CODE 4510-30-P